ELECTION ASSISTANCE COMMISSION

Publication of State Plan Pursuant to the Help America Vote Act

AGENCY: U.S. Election Assistance Commission (EAC).

ACTION: Notice.

SUMMARY: Pursuant to Sections 254(a)(11)(A) and 255(b) of the Help America Vote Act (HAVA), Public Law 107-252, the U.S. Election Assistance Commission (EAC) hereby causes to be published in the Federal Register changes to the HAVA state plans previously submitted by Ohio and Louisiana.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual state at the address listed below.

SUPPLEMENTARY INFORMATION: On March 24, 2004, the U.S. Election Assistance Commission published in the Federal Register the original HAVA state plans filed by the fifty states, the District of Columbia and the territories of American Samoa, Guam, Puerto Rico, and the U.S. Virgin Islands. 69 FR 14002. HAVA anticipated that states, territories and the District of Columbia would change or update their plans from time to time pursuant to HAVA Section 254(a)(11) through (13). HAVA Sections 254(a)(11)(A) and 255 require EAC to publish such updates. This is the third revision to Ohio's state plan and the third revision to Louisiana's state plan.

The amendments to Ohio and Louisiana's state plans provide for compliance with the Military and Overseas Voter Empowerment Act (MOVE Act) and address changes in the respective budgets to account for the use of Fiscal Year 2009 and 2010 requirements payments. Ohio's amended state plan also presents an updated framework having implemented the requirements of Title III of HAVA. In accordance with HAVA Section 254(a)(12), all the state plans submitted for publication provide information on how the respective state succeeded in carrying out its previous state plan. Ohio and Louisiana confirm that the amendments to their state plans were developed and submitted to public comment in accordance with HAVA Sections 254(a)(11), 255, and 256.

Upon the expiration of thirty days from December 7, 2010, the state is eligible to implement the changes addressed in the plan that is published herein, in accordance with HAVA Section 254(a)(11)(C). EAC wishes to acknowledge the effort that went into revising these state plans and encourages further public comment, in writing, to the state election officials listed below.

Chief State Election Official

Secretary Jennifer Brunner, Secretary of State, 180 East Broad Street, Columbus, Ohio 43266, Phone: (614) 466-2655

Secretary Tom Schedler, Secretary of State, Twelve United Plaza, 8585 Archives Blvd., Baton Rouge, Louisiana 70809, Phone: (225) 342-4479, Fax: (225) 922-2003

Thank you for your interest in improving the voting process in America.

Dated: December 1, 2010.
Thomas R. Wilkey,
Executive Director, U.S. Election Assistance Commission.

BILLING CODE 6820-KF-P

Future Enhancements To The ERIN System For Military And Overseas Voters:

• Give the military and overseas voters the ability to mark their ballots online before printing and returning the ballots by mail.

• Provide electronic delivery of state and local ballots, if authorized by state law.

• Make the federal ballots available to the voters 45 days before the election for subsequent federal elections.

[FR Doc. 2010-30569 Filed 12-6-10; 8:45 am]

BILLING CODE 6820-KF-C